DEPARTMENT OF TRANSPORTATION

Surface Transportation Board

[STB Docket No. MC-F-21017]

Grupo Senda Autotransporte, S.A. de C.V. & Turimex del Norte, S.A. de C.V.—Acquisition of Control-Coach Investments LLC

AGENCY: Surface Transportation Board, DOT.

ACTION: Notice Tentatively Approving Finance Transaction.

SUMMARY: Grupo Senda Autotransporte, S.A. de C.V. (Grupo Senda), and Turimex del Norte, S.A. de C.V. (TDN) (collectively, Applicants), have filed an application under 49 U.S.C. 14303 to acquire control of Coach Investments LLC (Coach), by acquiring substantially all of the outstanding stock of Coach from David Rodriguez Benitez, Jaime Protasio Rodriguez Benitez, Alberto Rodriguez Benitez, and Maria Elena Rodriguez Benitez (collectively, Rodriguez Siblings). Coach currently controls Turimex LLC (Turimex), a federally regulated motor carrier of passengers. Persons wishing to oppose this application must follow the rules at 49 CFR 1182.5 and 1182.8. The Board has tentatively approved the transaction, and, if no opposing comments are timely filed, this notice will be the final Board action.

DATES: Comments must be filed by July 24, 2006. Applicants may file a reply by August 8, 2006. If no comments are filed by July 24, 2006, this notice is effective on that date.

ADDRESSES: Send and original and 10 copies of any comments referring to STB Docket No. MC-F-21017 to: Surface Transportation Board, 1925 K Street, NW., Washington, DC 20423-0001. In addition, send one copy of comments to the Applicants' representatives: Don H. Hainbach and Erin M. Tallardy, Garofalo Goerlich Hainbach PC, 1200 New Hampshire Ave., NW., Washington, DC 20036.

FOR FURTHER INFORMATION CONTACT: Eric S. Davis, (202) 565-1608 [Federal Information Relay Service (FIRS) for the hearing impaired: 1-800-877-8339].

SUPPLEMENTARY INFORMATION: TDN is a variable capital corporation, with its principal place of business in Mexico, where it provides scheduled passenger transportation. Grupo Senda, a noncarrier holding company located in Mexico, is the majority owner (98%) of TDN.¹ Grupo Senda owns Transportes Tamaulipas, S.A. de C.V. (TT), a motor carrier that operates primarily in Mexico, but also holds federally issued authority under MC-700041. TT is the majority owner (51%) of Autobuses Coahuilenses, S.A. de C.V., a motor carrier that operates primarily in Mexico, but also holds federally issued authority under MC-434199. The carriers involved in the transaction satisfy the jurisdictional threshold of having gross operating revenues in excess of $2 million during a recent 12-month period.

¹ Grupo Senda is owned by the Rodriguez Siblings, Jaime Rodriguez Silva, and Maria Elena Benitez de Rodriguez.

Coach, a noncarrier, is equally owned by the Rodriguez Siblings. Coach, in turn, owns 100% of the shares of Turimex.

Under 49 U.S.C. 14303(b), the Board must approve and authorize a transaction found to be consistent with the public interest, taking into consideration at least: (1) The effect of the transaction on the adequacy of transportation to the public; (2) the total fixed charges that result; and (3) the interest of affected carrier employees.

Grupo Senda and TDN have submitted information, as required by 49 CFR 1182.2, including the information to demonstrate that the proposed transaction is consistent with the public interest under 49 U.S.C. 14303(b). Applicants state that the proposed transaction will have no impact on the adequacy of transportation services available to the public, that the proposed transaction will not have an adverse effect on total fixed charges, and that the interests of employees of TDN will not be adversely impacted. Additional information, including a copy of the application, may be obtained from the Applicants' representatives.

On the basis of the application, we find that the proposed acquisition of control is consistent with the public interest and should be authorized. If any opposing comments are timely filed, this finding will be deemed vacated, and unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered

1. The proposed finance transaction is approved and authorized, subject to the filing of opposing comments.

2. If timely opposing comments are filed, the findings made in this notice will be deemed as having been vacated.

3. This notice will be effective July 24, 2006, unless timely opposing comments are filed.

4. A copy of this notice will be served on: (1) The U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: June 2, 2006.
By the Board, Chairman Buttrey and Vice Chairman Mulvey.
Vernon A. Williams,
Secretary.

[FR Doc. E6-8942 Filed 6-8-06; 8:45 am]

BILLING CODE 4915-01-P